DEPARTMENT OF TRANSPORTATION

National Highway Traffic Safety Administration

[Docket No. NHTSA-2014-0035; Notice 1]

McLaren Automotive, Inc., Receipt of Petition for Decision of Inconsequential Noncompliance

AGENCY: National Highway Traffic Safety Administration (NHTSA), Department of Transportation (DOT).

ACTION: Receipt of petition.

SUMMARY: McLaren Automotive, Inc. “McLaren” has determined that certain MY 2012-2015 McLaren MP4 12-C Spider and Coupe passenger vehicles do not fully comply with paragraph S4.4(c)(2), of Federal Motor Vehicle Safety Standard (FMVSS) No. 138, Tire Pressure Monitoring Systems. McLaren has filed an appropriate report dated February 18, 2014, pursuant to 49 CFR part 573, Defect and Noncompliance Responsibility and Reports.

DATES: The closing date for comments on the petition is July 13, 2015.

ADDRESSES: Interested persons are invited to submit written data, views, and arguments on this petition. Comments must refer to the docket and notice number cited at the beginning of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: Logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION:

I. McLaren's Petition

Pursuant to 49 U.S.C. 30118(d) and 30120(h) and the rule implementing those provisions at 49 CFR part 556, McLaren submitted a petition for an exemption from the notification and remedy requirements of 49 U.S.C. Chapter 301 on the basis that this noncompliance is inconsequential to motor vehicle safety.

This notice of receipt of McLaren's petition is published under 49 U.S.C. 30118 and 30120 and does not represent any agency decision or other exercise of judgment concerning the merits of the petition.

II. Vehicles Involved

Affected are approximately 1,366 MY 2012-2015 McLaren MP4 12-C Spider and Coupe passenger vehicles manufactured from October 10, 2011 through February 18, 2014.

III. Noncompliance

McLaren explains that the Tire Pressure Monitoring System (TPMS) malfunction indicator illuminates as required by FMVSS No. 138 when a malfunction is first detected, however, if the malfunction is caused by an incompatible wheel, when the vehicle ignition is deactivated and then reactivated to the “On” (“Run”) position after a five-minute period, the malfunction indicator does not re-illuminate immediately as required. McLaren added, that the malfunction indicator in the subject vehicles will re-illuminate after a maximum of 40 seconds of driving at or above 23 mph.

Rule Text

Paragraph S4.4(c)(2) of FMVSS No. 138 requires in pertinent part:

S4.4—TPMS Malfunction.

(c) Combination low tire pressure/TPMS malfunction telltale. The vehicle meets the requirements of S4.4(a) when equipped with a combined Low Tire Pressure/TPMS malfunction telltale that:

(2) Flashes for a period of at least 60 seconds but no longer than 90 seconds upon detection of any condition specified in S4.4(a) after the ignition locking system is activated to the “On” (“Run”) position. After each period of prescribed flashing, the telltale must remain continuously illuminated as long as a malfunction exists and the ignition locking system is in the “On” (“Run”) position. This flashing and illumination sequence must be repeated each time the ignition locking system is placed in the “On” (“Run”) position until the situation causing the malfunction has been corrected . . .

V. Summary of McLaren's Analyses

McLaren stated its belief that the subject noncompliance is inconsequential to motor vehicle safety for the following reasons:

(A) McLaren states that although the noncompliance arises because the malfunction indicator does not re-illuminate immediately after the vehicle is restarted, the unit will detect a malfunction and activate the TPMS malfunction indicator once the vehicle is moving above 23 mph for a maximum of 40 seconds and will remain illuminated for the rest of that ignition cycle, and subsequent ignition cycles. Thus, even in the presence of the noncompliance, drivers are warned of the malfunction in less than one minute of driving at or above normal urban speeds. McLaren submits that this brief pause before the malfunction indicator illuminates is inconsequential to motor vehicle safety.

(B) McLaren also states that if the TPMS fails to detect a compatible sensor, the TPMS indicator on the instrument cluster will display no value for the tire pressure at the affected wheel(s). This will also alert the driver to the fact that something is not functioning properly with the system, pending the illumination of the malfunction indicator.

(C) McLaren further states that with the exception of the subject noncompliance, all other aspects of the malfunction indicator and of the TPMS in general, are compliant with FMVSS No. 138.

(D) McLaren confirms that it has received no customer complaints about this condition.

McLaren has additionally informed NHTSA that they have corrected this noncompliance in all vehicles manufactured after February 18, 2014.

In summation, McLaren believes that the described noncompliance of the subject vehicles is inconsequential to motor vehicle safety, and that its petition, to exempt McLaren from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that McLaren no longer controlled at the time it determined that the noncompliance existed. However, any decision on this petition does not relieve vehicle distributors and dealers of the prohibitions on the sale, offer for sale, or introduction or delivery for introduction into interstate commerce of the noncompliant vehicles under their control after McLaren notified them that the subject noncompliance existed.

Authority: 49 U.S.C. 30118, 30120: Delegations of authority at 49 CFR 1.95 and 501.8.

Jeffrey Giuseppe,
Director, Office of Vehicle Safety Compliance.

[FR Doc. 2015-14258 Filed 6-10-15; 8:45 am]

BILLING CODE 4910-59-P